DEPARTMENT OF JUSTICE

[OMB Number 1125-0019]

Agency Information Collection Activities; Proposed eCollection eComments Requested; Revision and Extension of a Previously Approved Collection; Office of the Chief Administrative Hearing Officer (OCAHO) E-Filing Portal

AGENCY: Executive Office for Immigration Review, Department of Justice.

ACTION: 30-Day notice.

SUMMARY: The Executive Office for Immigration Review, Department of Justice (DOJ), will be submitting the following information collection request to the Office of Management and Budget (OMB) for review and approval in accordance with the Paperwork Reduction Act of 1995.

DATES: Comments are encouraged and will be accepted for 30 days until July 22, 2024.

FOR FURTHER INFORMATION CONTACT: If you have comments especially on the estimated public burden or associated response time, suggestions, or need a copy of the proposed information collection instrument with instructions or additional information, please contact: Office of the General Counsel, Executive Office for Immigration Review, 5107 Leesburg Pike, Suite 2600, Falls Church, VA 22041, telephone: (703) 305-0470, EOIR.PRA.Comments@usdoj.gov; or Justine Fuga, Attorney Advisor, telephone: (571) 294-2272, justine.fuga@usdoj.gov.

SUPPLEMENTARY INFORMATION: The proposed information collection was previously published in the Federal Register on March 21, 2024, allowing a 60-day comment period. Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number 1125-0019. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: Revision and Extension of a previously approved collection.

2. Title of the Form/Collection: OCAHO E-Filing Portal.

3. Agency form number, if any, and the applicable component of the Department of Justice sponsoring the collection: EOIR does not maintain an agency-specific form number for this collection.

4. Affected public who will be asked or required to respond, as well as a brief abstract: Individuals and households. The obligation to respond is voluntary.

Abstract: In order to improve the efficient adjudication of OCAHO cases and reduce the printing, copying, and mailing costs (for both OCAHO and the public) associated with OCAHO cases, OCAHO began developing a web-based electronic case management system in 2018 and continues to develop a web-based electronic filing portal (OCAHO E-Filing Portal) for this system. The OCAHO E-Filing Portal will allow parties to OCAHO cases to file complaints electronically, request electronic access to a case to which they are a party, file motions and requests electronically, and receive service of orders and decisions from OCAHO by email. EOIR obtained initial PRA clearance for this information collection in 2021. The OCAHO E-Filing Portal has never been made available to the public because it is connected to an internal electronic case management system that is still under development. Since initial clearance in 2021, and in tandem with developments to the OCAHO case management system, EOIR has made several changes to the OCAHO E-Filing Portal: EOIR removed data fields determined to be unnecessary for the adjudication of OCAHO cases; EOIR added comment fields to various parts of the Portal for parties to OCAHO proceedings to provide information relevant to proceedings and not otherwise captured by other fields in this information collection; EOIR reordered Portal contents and form fields, and added instructions throughout the Portal, to enhance clarity and user navigation within the Portal; and EOIR added capabilities to enable form fields to auto-populate in the Portal upon upload of a completed PDF version of the EOIR-58, Unfair Immigration-Related Employment Practices Complaint Form (OMB#1125-0016), and the EOIR-30, OCAHO Subpoena Form. EOIR intends these enhancements to reduce costs and resources required during the course of OCAHO proceedings and ensure that only authorized parties and their representatives will have access to information and documents pertaining to their specific cases.

5. Obligation to Respond: Optional and voluntary.

6. Total Estimated Number of Respondents: 55.

7. Estimated Time per Respondent: 10 minutes.

8. Frequency: Once annually.

9. Total Estimated Annual Time Burden: 9.35 hours.

10. Total Estimated Annual Other Costs Burden: $736.22.

If additional information is required, contact: Darwin Arceo, Department Clearance Officer, Policy and Planning Staff, Justice Management Division, United States Department of Justice, Two Constitution Square, 145 N Street NE, 4W-218 Washington, DC 20530.

Dated: June 17, 2024.
Darwin Arceo,
Department Clearance Officer for PRA, U.S. Department of Justice.

[FR Doc. 2024-13633 Filed 6-20-24; 8:45 am]

BILLING CODE 4410-30-P